DEPARTMENT OF COMMERCE

Census Bureau

Agency Information Collection Activities; Submission to the Office of Management and Budget (OMB) for Review and Approval; Comment Request; Form BC-170, U.S. Census Employment Application and Form BC-171, Additional Applicant Information

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the reinstatement, without change, of Form BC-170, U.S. Census Employment Application and Form BC-171, Additional Applicant Information, prior to the submission of the information collection request (ICR) to OMB for approval.

DATES: To ensure consideration, comments regarding this proposed information collection must be received on or before May 17, 2021.

ADDRESSES: Interested persons are invited to submit written comments by email to Michael DeFrank, Chief, Management Services Branch at Michael.A.DeFrank@census.gov.

Please reference Form BC-170, U.S. Census Employment Application and Form BC-171, Additional Applicant Information in the subject line of your comments. You may also submit comments, identified by Docket Number USBC-2021-0006, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Michael A. DeFrank, Chief, Management Services Branch. Mr. DeFrank can be reached by telephone on 301-763-2864 or by email at Michael.A.DeFrank@census.gov.

SUPPLEMENTARY INFORMATION:

I. Abstract

The U.S. Census Bureau is requesting to continue to use Form BC-170, U.S. Census Employment Application and Form BC-171, Additional Applicant Information. There are no changes requested to these forms at this time.

The Census Bureau uses these forms to collect applicant information. Selecting officials use Form BC-170 as part of the recruitment, assessment, and selection process for potential field employees. The form was used for the Decennial Census and will continue to be used for Current/Permanent Surveys, upcoming Special Censuses as well as Decennial Census tests. Applicants applying for Current/Permanent Survey positions will submit a paper version of these forms at no cost to the applicant. An online version of these forms will be used for Special Censuses and Decennial Census tests.

In 2018, Form BC-171, Additional Applicant Information replaced Equal Employment Opportunity Commission (EEOC) common use from 3046-0046, Demographic Information on Applicants for Federal Employment to collect voluntary applicant data and is not used in the selection process.

The Census Bureau intends for applicants to access, complete, and submit both the BC-170 and BC-171 to human resources staff via an online applicant system for census jobs. The Census Bureau will continue to use a paper version of the BC-170 and BC-171 forms for applicants to complete and submit to the Regional Office for the Field Representative, Field Supervisor, and temporary clerical positions until an online version is available for this group of applicants. Lastly, the online version, paper forms and the online PDF format forms will be available in Spanish for Puerto Rico.

II. Method of Collection

All interested applicants submit the forms as described above.

III. Data

OMB Control Number: 0607-0139.

Form Number(s): BC-170 and BC-171.

Type of Review: Regular submission, Request for an Extension, without Change, of a Currently Approved Collection.

Affected Public: Individuals or households.

Estimated Number of Respondents: 12,000 persons (Note that in non-Decennial periods of data collection after 2020, the estimated number of respondents annually is approximately 12,000 persons).

Estimated Time per Response: 20 minutes (Note that this is based on calculations that determined 15 minutes for completing the BC-170 and 5 minutes for completing the BC-171. The combined total is 20 minutes for applicants completing both forms).

Estimated Total Annual Burden Hours: 4,000 annual hours on average.

Estimated Total Annual Cost to Public: $0.

Respondent's Obligation: Voluntary.

Legal Authority: Title 13 U.S.C., Chapter 1, Subchapter II, Section 23 a and c.; Title 5 U.S.C., Part II, Chapter 13; Title 5 U.S.C. part III, Chapter 33, Subchapter 1, Section 3301 and 3320.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-05419 Filed 3-15-21; 8:45 am]

BILLING CODE 3510-07-P